DEPARTMENT OF HOUSING AND URBAN DEVELOPMENT

[Docket No. FR-5486-N-13]

Notice of Proposed Information Collection for Public Comment: Section 8 Fair Market Rent Surveys

AGENCY: Office of Policy Development and Research, HUD.

ACTION: Notice.

SUMMARY: The proposed information collection requirement described below will be submitted to the Office of Management and Budget (OMB) for review, as required by the Paperwork Reduction Act. The Department is soliciting public comments on the subject proposal. An extension and modification of the survey mode of the collection effort that expires on August 31, 2011, is being requested.

DATES: Comments Due Date: August 19, 2011.

ADDRESSES: Interested persons are invited to submit comments regarding this proposal. Comments must be received within thirty (60) days from the date of this Notice. Comments should refer to the proposal by name/or OMB approval number and should be sent to: Reports Liaison Officer, Office of Policy Development and Research, Department of Housing and Urban Development, 451 7th Street, SW., Room 8234, Washington, DC 20410.

FOR FURTHER INFORMATION CONTACT: Marie Lihn, Economic and Market Analysis Division, Office of Policy Development and Research, Department of Housing and Urban Development, 451 7th Street, SW., Room 8224, Washington, DC 20410; telephone (202) 402-5866; e-mail marie_l._lihn@hud.gov. This is not a toll-free number. Copies of the proposed forms and other available documents submitted to OMB may be obtained from Ms. Lihn.

SUPPLEMENTARY INFORMATION: The Department of Housing and Urban Development will submit the proposed information collection package to OMB for review as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Section 8 Random Digit Dialing Fair Market Rent Surveys.

OMB Control Number: 2528-0142.

Description of the need for the information and proposed use: HUD is evaluating alternative survey methodologies to collect gross rent data for specific areas in a relatively fast and accurate way that may be used to estimate and update Section 8 Fair Market Rents (FMRs) in areas where FMRs are believed to be incorrect and data from the American Community Survey is not available at the local level. Section 8(C)(1) of the United States Housing Act of 1937 requires the Secretary to publish Fair Market Rents (FMRs) annually to be effective on October 1 of each year. FMRs are used for the Section 8 Rental Certificate Program (including space rentals by owners of manufactured homes under that program); the Moderate Rehabilitation Single Room Occupancy program; housing assisted under the Loan Management and Property Disposition programs; payment standards for the Rental Voucher program; and any other programs whose regulations specify their use.

Random digit dialing (RDD) telephone surveys have been used for many years to adjust FMRs and will be evaluated for continued use. These surveys are based on a sampling procedure that uses computers to select statistically random samples of telephone numbers to locate certain types of rental housing units for surveying. Cell phone surveys will be incorporated into this methodology and comprise roughly one-third of the sample. In addition HUD will collect survey data using web-based and mail systems. Initially, as the methodology is being refined, HUD will conduct surveys of up to 4 individual FMR areas in a year to test the accuracy of their FMRs. Up to 5 individual FMR area will be surveyed after the new methodology is determined.

Members of affected public: Individuals or households living in areas surveyed.

Estimation of the total numbers of hours needed to prepare the information collection including number of respondents, frequency of response, and hours of response:

| Screen outs | Stayers | Movers
TELEPHONE/CELLPHONE
Households | 3129 | 857 | 300
Average Minutes | 4.75 | 9.5 | 9.5
Burden Hours | 265 | 140 | 49
Total | 454 |  |
MAIL/WEB
Households | 3129 | 857 | 300
Average Minutes | 1 | 5 | 5
Burden Hours | 52 | 71 | 25
Total | 148 |  |
ALL MODES
Total Number Responses | 8572 |  |
Total Burden Hours | 602 |  |

Status of the proposed information collection: Continuing under current authorization.

Authority: Section 8(C)(1) of the United States Housing Act of 1937.

Dated: June 9, 2011.
Raphael W. Bostic,
Assistant Secretary for Policy Development & Research.

[FR Doc. 2011-15275 Filed 6-17-11; 8:45 am]

BILLING CODE 4210-67-P